Proclamation 10523 of February 24, 2023

Increasing Duties on Certain Articles From the Russian Federation

By the President of the United States of America

A Proclamation

1. On April 8, 2022, I signed the Suspending Normal Trade Relations with Russia and Belarus Act (19 U.S.C. 2434 note) (Suspending NTR Act). Section 3(a) of the Suspending NTR Act suspended nondiscriminatory tariff treatment for products of the Russian Federation and of the Republic of Belarus, and imposed the rates of duty set forth in column 2 of the Harmonized Tariff Schedule of the United States (HTSUS) on all products of the Russian Federation and of the Republic of Belarus, effective as of April 9, 2022. Section 3(b)(1) of the Suspending NTR Act provides that the President may proclaim increases in the column 2 rates of duty applicable to products of the Russian Federation and of the Republic of Belarus.

2. On April 8, 2022, I signed the Ending Importation of Russian Oil Act (22 U.S.C. 8923 note). Section 2 of the Ending Importation of Russian Oil Act prohibits imports of all products of the Russian Federation classified under chapter 27 of the HTSUS, in a manner consistent with any implementation actions issued under Executive Order 14066 of March 8, 2022.

3. In Executive Order 14066 of March 8, 2022, I prohibited, inter alia, the importation into the United States of the following products of Russian Federation origin: crude oil; petroleum; petroleum fuels, oils, and products of their distillation; liquefied natural gas; coal; and coal products.

4. In Executive Order 14068 of March 11, 2022, I prohibited, inter alia, the importation into the United States of the following products of Russian Federation origin: fish, seafood, and preparations thereof; alcoholic beverages; and non-industrial diamonds.

5. In Proclamation 10420 of June 27, 2022, I stated that I had determined that increasing the column 2 rates of duty to 35 percent ad valorem on certain products of the Russian Federation was warranted and consistent with the foreign policy interests of the United States. I also stated that the United States will monitor the implementation of the increased duties, and that I may revisit this determination, as appropriate.

6. In accordance with section 3(b)(1) of the Suspending NTR Act, I have determined that increasing the column 2 rates of duty to 35 percent ad valorem on certain additional products of the Russian Federation and to 70 percent ad valorem on certain other additional products of the Russian Federation, the importation of which has not already been prohibited, is warranted and consistent with the foreign policy interests of the United States. In addition, I have determined that increasing the column 2 rates of duty from 35 percent ad valorem to 70 percent ad valorem on certain products covered by Proclamation 10420 of June 27, 2022, the importation of which has not already been prohibited, is warranted and consistent with the foreign policy interests of the United States. These products are listed in the Annex to this proclamation. The United States will monitor the implementation of the increased duties, and I may revisit this determination, as appropriate.

7. Section 604 of the Trade Act of 1974, as amended (19 U.S.C. 2483), authorizes the President to embody in the HTSUS the substance of statutes affecting import treatment, and actions thereunder, including the removal, modification, continuance, or imposition of any rate of duty or other import restriction.

NOW, THEREFORE, I, JOSEPH R. BIDEN JR., President of the United States of America, by the authority vested in me by the Constitution and the laws of the United States of America, including section 3 of the Suspending Normal Trade Relations with Russia and Belarus Act; section 301 of title 3, United States Code; and section 604 of the Trade Act of 1974, as amended, do hereby proclaim as follows:

(1) To increase the column 2 rates of duty on imports of certain articles of the Russian Federation as set forth in paragraph 6 of this proclamation, subdivision (b) to U.S. Note 30 to subchapter III of chapter 99 of the HTSUS is modified and new HTSUS heading 9903.90.09 and new subdivisions (c) and (d) to U.S. Note 30 to subchapter III of chapter 99 of the HTSUS are established, as provided for in the Annex to this proclamation.

(2) The modifications to the HTSUS made by clause 1 of this proclamation shall be effective with respect to goods entered for consumption, or withdrawn from warehouse for consumption, on or after 12:01 a.m. eastern daylight time on April 1, 2023, and shall continue in effect, unless such actions are expressly reduced, modified, or terminated.

(3) Any provision of previous proclamations and Executive Orders that is inconsistent with the actions taken in this proclamation is superseded to the extent of such inconsistency.

IN WITNESS WHEREOF, I have hereunto set my hand this twenty-fourth day of February, in the year of our Lord two thousand twenty-three, and of the Independence of the United States of America the two hundred and forty-seventh.

Billing code 3395-F3-P

[FR Doc. 2023-04471

Filed 3-1-23; 11:15 a.m.]

Billing code 7020-02-C